DEPARTMENT OF EDUCATION

Applications for New Awards; High School Equivalency Program

AGENCY: Office of Elementary and Secondary Education, Department of Education.

ACTION: Notice.

SUMMARY: The Department of Education (Department) is issuing a notice inviting applications for fiscal year (FY) 2025 for the High School Equivalency Program (HEP).

DATES:

Applications Available: September 3, 2024.

Deadline for Transmittal of Applications: November 13, 2024.

Deadline for Intergovernmental Review: January 13, 2025.

Pre-Application Webinar Information: The Department will hold a pre-application webinar for prospective applicants. The date and time of the webinar will be announced on the Department's website at: https://oese.ed.gov/offices/office-of-migrant-education/high-school-equivalency-program/applicant-information-high-school-equivalency-program/.

Note: For new potential grantees unfamiliar with grantmaking at the Department, please consult our “Getting Started with Discretionary Grant Applications” web page at https://www2.ed.gov/fund/grant/about/discretionary/index.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Dylan Hart-Medina, Office of Migrant Education, Office of Elementary and Secondary Education, U.S. Department of Education, 400 Maryland Avenue SW, Washington, DC 20202. Telephone: (202) 987-1705. Email: Dylan.Hart-Medina@ed.gov.

If you are deaf, hard of hearing, or have a speech disability and wish to access telecommunications relay services, please dial 7-1-1.

SUPPLEMENTARY INFORMATION:

Full Text of Announcement

I. Funding Opportunity Description

Purpose of Program: The HEP is designed to assist migratory or seasonal farmworkers (or immediate family members of such workers) to obtain the equivalent of a secondary school diploma and subsequently to gain improved employment, enter military service, or be placed in an institution of higher education (IHE) or other postsecondary education or training.

Assistance Listing Number: 84.141A.

OMB Control Number: 1894-0006.

Note: The Administration's Good Jobs Initiative, led by the Department of Labor, is focused on providing information to workers, employers, and government to promote good jobs for all workers. The Department encourages applicants for grants under this program to consider in their budget and personnel planning for the proposal the use of funds in ways that would improve job quality and create access to good jobs for all working people. Additional information about the Good Jobs Initiative and the Department's Good Jobs Principles for Education is available at https://www.dol.gov/general/good-jobs and https://www.ed.gov/us-department-education-good-jobs-principles-statement.

Priorities: This competition includes one competitive preference priority and two invitational priorities. In accordance with 34 CFR 75.105(b)(2)(ii) and (iv), the competitive preference priority is from section 418A(e) of the Higher Education Act of 1965, as amended (HEA) (20 U.S.C. 1070d-2(e)), and 34 CFR 206.31.

Competitive Preference Priority: For FY 2025 and any subsequent year in which we make awards from the list of unfunded applications from this competition, this priority is a competitive preference priority. Under 34 CFR 75.105(c)(2)(i), we award up to an additional 15 points to an application, depending on how well the application meets this competitive preference priority.

This priority is:

Consideration of Prior Experience. (Up to 15 points)

Projects that are expiring (HEP grantees in their final budget period that received their current HEP award in FY 2020) will be considered for additional points under this competitive preference priority. In accordance with section 418A(e) of the HEA, we will award up to 15 points for this priority. In accordance with 34 CFR 206.31(a), the Secretary will consider the applicant's experience in implementing an expiring HEP project, with respect to:

(a) Whether the applicant served the number of participants described in its approved application;

(b) The extent to which the applicant met or exceeded its funded objectives with regard to project participants, including the targeted number and percentage of—

(1) Participants who received a general educational development (GED) credential; and

(2) GED credential recipients who were reported as entering postsecondary education programs, career positions, or the military; and

(c) The extent to which the applicant met administrative requirements, including recordkeeping, reporting, and financial accountability under the terms of the previously funded award.

Note: Although 34 CFR 206.31(a)(2)(i) and (ii) refer to general educational development (GED) credentials, the Department recognizes that there are multiple examinations through which high school equivalency (HSE) can be earned and, for the purposes of this notice, uses GED interchangeably with HSE.

Invitational Priorities: For FY 2025 and any subsequent year in which we make awards from the list of unfunded applications from this competition, these priorities are invitational priorities. Under 34 CFR 75.105(c)(1) we do not give an application that meets these invitational priorities a competitive or absolute preference over other applications. Applicants that address these invitational priorities must do so under the selection criterion “Quality of the project design.”

These priorities are:

Meeting Students' Social, Emotional, and Academic Needs.

Within a project designed to assist HEP students obtain the equivalent of a secondary school diploma, we invite projects that are designed to improve students' social, emotional, academic, and career development, with a focus on underserved students, through one or both of the following:

(a) Creating a positive, inclusive, and identity-safe climate at IHEs through fostering a sense of belonging and inclusion for students who are migratory or seasonal farmworkers or immediate family members of such workers.

(b) Fostering partnerships, including across government agencies (e.g., housing, human services, employment agencies), local educational agencies, community-based organizations, adult learning providers, and postsecondary education institutions, to provide comprehensive services to students who are migratory or seasonal farmworkers or immediate family members of such workers and their families that support students' social, emotional, mental health, and academic needs, and that are inclusive with regard to race, ethnicity, culture, language, and disability status.

Promoting Multilingualism to Equip Participants with Language Skills Necessary to Thrive in a Globalized World.

Within a project designed to assist HEP participants obtain the equivalent of a secondary school diploma, we invite projects that recognize, and are designed to increase awareness of, the benefits of proficiency in more than one language to help participants attain good jobs that provide a competitive wage, access to family-sustaining benefits, and equitable opportunities for advancement.

Definitions: The definitions of “migrant farmworker” and “seasonal farmworker” are from 34 CFR 206.5. The definitions of “demonstrates a rationale,” “experimental study,” “logic model,” “project component,” “promising evidence,” “quasi-experimental design study,” “relevant outcome,” and “What Works Clearinghouse Handbooks (WWC Handbooks)” are from 34 CFR 77.1.

Demonstrates a rationale means a key project component included in the project's logic model is informed by research or evaluation findings that suggest the project component is likely to improve relevant outcomes.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Logic model (also referred to as a theory of action) means a framework that identifies key project components of the proposed project (i.e., the active “ingredients” that are hypothesized to be critical to achieving the relevant outcomes) and describes the theoretical and operational relationships among the key project components and relevant outcomes.

Migrant farmworker means a seasonal farmworker—as defined in this notice—whose employment required travel that precluded the farmworker from returning to his or her domicile (permanent place of residence) within the same day.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

Relevant outcome means the student outcome(s) or other outcome(s) the key project component is designed to improve, consistent with the specific goals of the program.

Seasonal farmworker means a person whose primary employment was in farmwork on a temporary or seasonal basis (that is, not a constant year-round activity) for a period of at least 75 days within the past 24 months.

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbooks released in August 2022 (Version 5.0), are available at https://ies.ed.gov/ncee/wwc/Handbooks.

Program Authority: 20 U.S.C. 1070d-2.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The regulations for this program in 34 CFR part 206. (e) The Migrant Education Program (MEP) definitions in 34 CFR 200.81. (f) The National Farmworker Jobs Program (NFJP) definitions in 20 CFR 685.110 and eligibility regulations in 20 CFR 685.320.

Note: The regulations in 34 CFR part 86 apply to IHEs only.

Note: The MEP definitions and NFJP definitions and eligibility regulations apply to individuals seeking to qualify for HEP based on past participation in the MEP or NFJP.

Note: The Department will implement the changes included in the OMB final rule, OMB Guidance for Federal Financial Assistance (www.federalregister.gov/documents/2024/04/22/2024-07496/guidance-for-federal-financial-assistance), formerly called, Office of Management and Budget Guidance for Grants and Agreements, which amends 2 CFR part 200, on October 1, 2024. When preparing an application, grant applicants who anticipate a performance period start date on or after October 1, 2024, should follow the requirements in the updated 2 CFR part 200. For more information about these updated regulations please visit: https://www2.ed.gov/policy/fund/guid/uniform-guidance/index.html.

II. Award Information

Type of Award: Discretionary grants.

Estimated Available Funds: The Administration has requested $6,650,000 for new awards for this program for FY 2025. The actual level of funding, if any, depends on final congressional action. However, we are inviting applications to allow enough time to complete the grant process if Congress appropriates funds for this program.

Contingent upon the availability of funds and the quality of applications, we may make additional awards in subsequent years from the list of unfunded applications from this competition.

Estimated Range of Awards: $180,000-$475,000.

Estimated Average Size of Awards: $475,000.

Maximum Award: We will not make an award exceeding $475,000 for a single budget period of 12 months. Under 34 CFR 75.104(b) the Secretary may reject, without consideration or evaluation, any application that proposes a project funding level that exceeds the stated maximum award amount.

Minimum Award: We will not make an award for less than $180,000 for a single budget period of 12 months. Under section 418A of the HEA, the Secretary is prohibited from making an award for less than the stated award amount. Therefore, we will reject any application that proposes a HEP award that is less than the stated minimum award amount.

Estimated Number of Awards: 14.

Note: The Department is not bound by any estimates in this notice.

Project Period: Up to 60 months (five 12-month budget periods). Under section 418A(e) of the HEA, except under extraordinary circumstances, the Secretary must award grants for a five-year period. Under 34 CFR 75.117(b), applicants must submit a budget narrative accompanied by a budget form prescribed by the Secretary that provides budget information for each budget period of the proposed project period. Therefore, we may reject any application that does not propose a five-year project period as reflected on the applicant's ED 524 form, Section A, and budget narrative form, submitted as a part of the application.

III. Eligibility Information

1. Eligible Applicants: An IHE (as defined in section 101 and 102 of the HEA) or a private nonprofit (as those terms are defined in 34 CFR 77.1) organization may apply for a grant to operate a HEP project. If a private nonprofit organization other than an IHE applies for a HEP grant, that organization must plan the project in cooperation with an IHE and must propose to operate some aspects of the project with the facilities of that IHE.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching. However, consistent with 34 CFR 75.700, which requires an applicant to comply with its approved application, an applicant that proposes non-Federal matching funds and is awarded a grant must provide those funds for each year that the funds are proposed.

b. Indirect Cost Rate Information: This program uses a training indirect cost rate. This limits indirect cost reimbursement to an entity's actual indirect costs, as determined in its negotiated indirect cost rate agreement, or 8 percent of a modified total direct cost base, whichever amount is less. For more information regarding training indirect cost rates, see 34 CFR 75.562. For more information regarding indirect costs, or to obtain a negotiated indirect cost rate, please see https://www2.ed.gov/about/offices/list/ocfo/intro.html.

c. Administrative Cost Limitation: This program does not include any program-specific limitation on administrative expenses. All administrative expenses must be reasonable and necessary and conform to Cost Principles described in 2 CFR part 200 subpart E of the Guidance for Federal Financial Assistance.

3. Subgrantees: Under 34 CFR 75.708(b) and (c) a grantee under this competition may award subgrants—to directly carry out project activities described in its application—to the following types of entities: IHEs and nonprofit organizations. The grantee may award subgrants to entities it has identified in an approved application or that it selects through a competition under procedures established by the grantee.

4. Other: a. Budget: Projects funded under this competition must budget for a three-day Office of Migrant Education annual meeting for HEP Directors in the Washington, DC area during each year of the project period. Such expenses are allowable uses of grant funds and may be included in the proposed project budget. This meeting may be held virtually if conditions warrant such format.

b. Build America, Buy America Act: This program is not subject to the Build America, Buy America Act (Pub. L. 117-58) domestic sourcing requirements.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application.

2. Submission of Proprietary Information: Given the types of projects that may be proposed in applications for HEP, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600 (Predisclosure of Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 25 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative. An application will not be disqualified if it exceeds the recommended page limit.

6. Application Requirements: Applicants must address the following application requirements (34 CFR 206.20). In applying for a grant, an applicant must—

(a) Follow the procedures and meet the requirements stated in subpart C of 34 CFR part 75 (Direct Grant Programs);

(b) Submit a grant application that:

(1) Covers a period of five years unless extraordinary circumstances warrant a shorter period; and

(2) Includes an annual budget of not less than $180,000;

(c) Include a management plan that contains:

(1) Assurances that the staff has a demonstrated knowledge of and will be sensitive to the unique characteristics and needs of the migrant and seasonal farmworker population; and

(2) Provisions for:

(i) Staff inservice training;

(ii) Training and technical assistance;

(iii) Staff travel;

(iv) Student travel;

(v) Interagency coordination; and

(vi) Project evaluation; and

(d) Provide the following assurances:

(1) The grantee will develop and implement a plan for identifying, informing, and recruiting eligible participants who are most in need of the academic and supporting services and financial assistance provided by the project.

(2) The grantee will develop and implement a plan for identifying and using the resources of the participating IHE and the community to supplement and enhance the services provided by the project.

V. Application Review Information

1. Selection Criteria: The selection criteria for this competition are from 34 CFR 75.210 ¹ and are as follows:

¹ Although updates to the Education Department General Administrative Regulations (EDGAR), including updates to 34 CFR 75.210, are scheduled to be published in the Federal Register on August 29, 2024, the selection criteria that apply to this competition are the ones in effect on the date of publication of this NIA.

(a) Need for project (Up to 10 points).

(1) The Secretary considers the need for the proposed project.

(2) In determining the need for the proposed project, the Secretary considers the magnitude of the need for the services to be provided or the activities to be carried out by the proposed project. (Up to 10 points)

(b) Quality of the project design (Up to 24 points).

(1) The Secretary considers the quality of the design of the proposed project.

(2) In determining the quality of the design of the proposed project, the Secretary considers the following factors:

(i) The extent to which the goals, objectives, and outcomes to be achieved by the proposed project are clearly specified and measurable. (Up to 7 points)

(ii) The extent to which the design of the proposed project is appropriate to, and will successfully address, the needs of the target population or other identified needs. (Up to 5 points)

(iii) The extent to which the proposed project will establish linkages with other appropriate agencies and organizations providing services to the target population. (Up to 5 points)

(iv) The extent to which the proposed project demonstrates a rationale (as defined in this notice). (Up to 7 points)

(c) Quality of project services (Up to 24 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability. (Up to 3 points)

(3) In addition, the Secretary considers the following factors:

(i) The extent to which the services to be provided by the proposed project are appropriate to the needs of the intended recipients or beneficiaries of those services. (Up to 7 points)

(ii) The extent to which the services to be provided by the proposed project involve the collaboration of appropriate partners for maximizing the effectiveness of project services. (Up to 7 points)

(iii) The likely impact of the services to be provided by the proposed project on the intended recipients of those services. (Up to 7 points)

(d) Quality of project personnel (Up to 10 points).

(1) The Secretary considers the quality of the personnel who will carry out the proposed project.

(2) In determining the quality of project personnel, the Secretary considers the extent to which the applicant encourages applications for employment from persons who are members of groups that have traditionally been underrepresented based on race, color, national origin, gender, age, or disability. (Up to 3 points)

(3) In addition, the Secretary considers the qualifications, including relevant training and experience, of key project personnel. (Up to 7 points)

(e) Adequacy of resources (Up to 12 points).

(1) The Secretary considers the adequacy of resources for the proposed project.

(2) In determining the adequacy of resources for the proposed project, the Secretary considers the following factors:

(i) The adequacy of support, including facilities, equipment, supplies, and other resources, from the applicant organization or the lead applicant organization. (Up to 4 points)

(ii) The relevance and demonstrated commitment of each partner in the proposed project to the implementation and success of the project. (Up to 4 points)

(iii) The extent to which the costs are reasonable in relation to the objectives, design, and potential significance of the proposed project. (Up to 4 points)

(f) Quality of the project evaluation (Up to 20 points).

(1) The Secretary considers the quality of the evaluation to be conducted of the proposed project.

(2) In determining the quality of the evaluation, the Secretary considers the following factors:

(i) The extent to which the methods of evaluation are thorough, feasible, and appropriate to the goals, objectives, and outcomes of the proposed project. (Up to 10 points)

(ii) The extent to which the methods of evaluation will provide performance feedback and permit periodic assessment of progress toward achieving intended outcomes. (Up to 5 points)

(iii) The extent to which the methods of evaluation will, if well implemented, produce promising evidence (as defined in this notice) about the project's effectiveness. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Additional factors we consider in selecting an application for an award are in section 418A of the HEA. In accordance with section 418A, the Secretary makes HEP awards based on the number, quality, and promise of the applications. Additionally, in accordance with section 418A, if final FY 2025 HEP and College Assistance Migrant Program appropriations exceed $40,000,000, the Secretary will consider the need to provide an equitable geographic distribution of HEP awards. The Secretary may consider the need to provide equitable geographic distribution of HEP awards when—

1. Two or more applicants receive the same score at the funding cutoff for this competition;

2. The Secretary determines that a geographic region is overserved by current HEP projects;

3. The Secretary determines that a geographic region is underserved by current HEP projects; or

4. Two or more applicants propose to operate similar HEP projects in the same geographical region.

When evaluating a potentially overserved or underserved geographic region, the Secretary may consider factors such as migrant or seasonal farmworker population data for a State or region, approximate distance between current and proposed projects, the type of entity of the current or proposed project (e.g., private nonprofit organization, 2-year IHE, 4-year IHE), and the number of students proposed to be served by the current or proposed HEP project.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Guidance for Federal Financial Assistance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN), or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of reporting under 34 CFR 75.110, the Department developed the following performance measures to evaluate the overall effectiveness of HEP: (1) the percentage of HEP participants exiting the program having received a HSE diploma, and (2) the percentage of HSE diploma recipients who enter postsecondary education or training programs, upgraded employment, or the military. These measures are referred to as HEP performance measures 1 and 2, respectively.

Applicants must propose annual targets for these measures and establish annual student enrollment targets in their applications. Applicants should identify these targets within their application abstracts. The national target for performance measure 1 for FY 2025 is that 69 percent of HEP participants exit the program having received an HSE credential. The national target for performance measure 2 for FY 2025 is that 80 percent of HEP HSE diploma recipients will enter postsecondary education or training programs, upgraded employment, or the military. The national targets for subsequent years may be adjusted based on additional baseline data.

Peer reviewers evaluate how well applicants propose to meet their application's goals and objectives. Peer reviewers will score related selection criteria on the basis of how well an applicant addresses these performance measures in addition to any other goals and objectives included in the application. Therefore, applicants will want to consider how to demonstrate a sound capacity to provide reliable data on the performance measures, including the project's annual performance targets for addressing the performance measures, as is required by the OMB-approved annual performance report that is included in the application package. All grantees will be required to submit, as part of their annual performance report, information with respect to these performance measures.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF), text format (txt), a thumb drive, an MP3 file, Braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site. You may also access Department documents published in the Federal Register by using the article search feature at: www.federalregister.gov. Specifically, through the advanced search feature at this site, you can limit your search to documents published by the Department.

Adam Schott,
Principal Deputy Assistant Secretary Delegated the Authority to Perform the Functions and Duties of the Assistant Secretary Office of Elementary and Secondary Education.

[FR Doc. 2024-19579 Filed 8-28-24; 8:45 am]

BILLING CODE 4000-01-P